DEPARTMENT OF HEALTH AND HUMAN SERVICES

Administration for Children and Families

Submission for OMB Review; Comment Request

Title: DHHS/ACF Rural Welfare-to-Work Strategies Demonstration Evaluation Project 18-Month Survey.

OMB No.: New collection.

Description: The Rural Welfare-to-Work Strategies Demonstration Evaluation Project, which was developed and funded by the Administration for Children and Families (ACF) of the U.S. Department of Health and Human Services (HHS), is a national evaluation to determine the benefits and cost-effectiveness of methods designed to aid current or former Temporary Assistance for Needy Families (TANF) recipients or other low-income families as they transition from welfare to the employment arena. This evaluation chiefly attempts to address four research questions:

• What are the issues and challenges associated with operating the new welfare-to-work services and policy approaches being studied.

• How effective are the welfare-to-work programs under the project in increasing employment and earnings and in improving other measures?

• What are the net costs of the welfare-to-work programs, and do the programs' benefits outweigh the costs?

• What approaches should policymakers and program managers consider in designing strategies to improve the efficacy of welfare-to-work strategies for families in rural areas?

The evaluation employs a multi-pronged approach to answer the research questions. These approaches include: (1) An impact study, which will examine the differences between control and intervention groups with respect to factors such as employment rates, earnings, and welfare receipt; (2) a cost-benefit analysis, which will calculate estimates of net program cost-effectiveness; and (3) an in-depth process study, which will identify implementation issues and challenges, examine program costs, and provide details on how programs achieve observed results. The data collected during the conduct of this study will be used for the following purposes:

• To study rural welfare-to-work programs' effects on factors such as employment, earnings, educational attainment, family composition;

• To collect data on a wider range of outcome measures—such as job acquisition, retention, and advancement, job quality, educational attainment, and employment barriers—than is available through welfare or unemployment insurance records, in order to understand how individuals are being affected by the demonstration programs;

• To support research on the implementation of welfare-to-work programs across sites;

• To obtain program participation and service use information important to the evaluation's cost-benefit component; and

• To obtain contact information for a future follow-up survey that will be important to achieving high response rates for that survey.

Respondents: The respondents of the 18-month follow-up survey are current and former TANF recipients, or individuals in families at risk of needing TANF benefits (working poor, hard-to-employ) from the three states participating in the evaluation (Illinois, Nebraska, and Tennessee). The survey will be administered to both intervention and control groups in each participating site. The estimated sample size for the survey is 3,400 individuals, including projected samples of 2,200 in Tennessee, and 600 each in Illinois and Nebraska. The survey will be conducted primarily by telephone, with field interviews conducted with those individuals who cannot be interviewed by telephone.

Respondents of the process study data collection efforts (interviews, case studies, and focus groups) include State and local-level agency staff from welfare agencies and other organizations. These individuals include program directors and site managers, program line staff, workforce development staff, TANF agency staff, and community partners and employers. Approximately 105 staff members per site are expected to participate in semi-structured interviews, 21 in case conferences, and 108 in focus groups, across the three demonstration sites.

Annual Burden Estimates
Instrument | Number of respondents | Number of responses per respondent | Average burden hours per response | Total burden hours
18-Month Follow-up Survey | 963 | 1 | 45 minutes or .75 hours | 723
Process Study Data Collection Staff Interviews | 105 | 1 | 75 minutes or 1.15 hours | 120.8
Process Study Data Collection Staff Case Conferences | 21 | 1 | 30 minutes or .5 hours | 10.5
Process Study Data Collection Staff Focus Groups | 108 | 1 | 90 minutes or 1.5 hours | 162

Estimated Total Annual Burden Hours: 1016.3.

Additional Information

Copies of the proposed collection may be obtained by writing to the Administration for Children and Families, Office of Administration, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503. Attn: Desk Officer for ACF.

Dated: January 7, 2003.
Robert Sargis,
Reports Clearance Officer.

[FR Doc. 03-639 Filed 1-10-03; 8:45 am]

BILLING CODE 4184-01-M